DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than July 9, 2012.

Interested persons are invited to submit written comments regarding the subject matter of the investigations to the Director, Office of Trade Adjustment Assistance, at the address shown below, not later than July 9, 2012.

The petitions filed in this case are available for inspection at the Office of the Director, Office of Trade Adjustment Assistance, Employment and Training Administration, U.S. Department of Labor, Room N-5428, 200 Constitution Avenue NW., Washington, DC 20210.

Signed at Washington, DC, this 5th of June 2012.
Elliott S. Kushner,
Certifying Officer, Office of Trade Adjustment Assistance.

Appendix

42 TAA Petitions Instituted Between 5/21/12 and 6/1/12
TA-W | Subject firm (petitioners) | Location | Date of institution | Date of petition
81635 | Communications Test Design, Inc. (Workers) | Nashville, TN | 05/21/12 | 05/17/12
81636 | Macquarie Group (State/One-Stop) | Philadelphia, PA | 05/21/12 | 05/18/12
81637 | Horton Automatics (Company) | Corpus Christi, TX | 05/21/12 | 05/18/12
81638 | LexisNexis, Customer Service Dept. & Fulfillment Dept. (Company) | Miamisburg, OH | 05/21/12 | 05/18/12
81638A | LexisNexis, Customer Service Dept. & Fulfillment Dept. (Company) | Albany, NY | 05/21/12 | 05/18/12
81639 | Springs Global US, Inc. (Company) | Fort Mill, SC | 05/21/12 | 05/17/12
81640 | Kaiser Aluminum (State/One-Stop) | Los Angeles, CA | 05/21/12 | 05/19/12
81641 | Sierra Aluminum (State/One-Stop) | Fontana, CA | 05/21/12 | 05/19/12
81642 | C.R. Laurence (CRL) (State/One-Stop) | Los Angeles, CA | 05/21/12 | 05/19/12
81643 | Frontier Aluminum (State/One-Stop) | Corona, CA | 05/21/12 | 05/19/12
81644 | Sapa Extrusions, A Subsidiary of Sapa, Inc. (State/One-Stop) | City of Industry, CA | 05/21/12 | 05/19/12
81645 | Par Technology Corp., workers of the Ever Serve 6000 POS Terminal (State/One-Stop) | New Hartford, NY | 05/22/12 | 05/17/12
81646 | CalAmp (State/One-Stop) | Waseca, MN | 05/22/12 | 05/21/12
81647 | Sealed Air Corporation (Company) | Rochester, NY | 05/22/12 | 05/18/12
81648 | Inc Research CPU, LLC (Company) | Morgantown, WV | 05/22/12 | 05/21/12
81649 | Cigna (Workers) | Bloomfield, CT | 05/22/12 | 05/21/12
81650 | M-D Building Products (State/One-Stop) | Gainesville, GA | 05/23/12 | 05/18/12
81651 | SFI of Ohio, LLC (State/One-Stop) | New Boston, OH | 05/23/12 | 05/22/12
81652 | AISS/Sterling Infosystems, Inc. (Workers) | Independence, OH | 05/23/12 | 05/22/12
81653 | Hoku Materials (Workers) | Pocatello, ID | 05/24/12 | 05/23/12
81654 | Seagate Technology (Company) | Longmont, CO | 05/24/12 | 04/30/12
81655 | Fortis Plastics, LLC (Workers) | Carlyle, IL | 05/24/12 | 05/23/12
81656 | Phillips Foods, Inc. (Company) | Baltimore, MD | 05/25/12 | 05/23/12
81657 | Triangle Suspension Systems (Workers) | Dubois, PA | 05/25/12 | 05/18/12
81658 | Allegany Technologies, The South Plant Operations (Union) | Albany, OR | 05/25/12 | 05/24/12
81659 | Seibert Powder Coating (State/One-Stop) | Shreveport, LA | 05/25/12 | 05/24/12
81660 | Advantis Occupational Health (State/One-Stop) | Shreveport, LA | 05/25/12 | 05/24/12
81661 | Oryx Advanced Materials (Workers) | Fremont, CA | 05/29/12 | 04/25/12
81662 | Dalphis (Workers) | Memphis, TN | 05/30/12 | 05/29/12
81663 | American Express Business Travel (Workers) | Phoenix, AZ | 05/30/12 | 05/26/12
81664 | Anthem Blue Cross & Blue Shield (Company) | South Portland, ME | 05/31/12 | 05/30/12
81665 | SRC, an AETNA Company (Workers) | Columbia, SC | 05/31/12 | 05/30/12
81666 | Goodrich Landing Gear (Company) | Cleveland, OH | 05/31/12 | 05/02/12
81667 | Health Net, Inc. (Corporate Address) (Company) | Woodland Hills, CA | 05/31/12 | 05/30/12
81668 | Vertis Inc., dba Vertis Communications (State/One-Stop) | Saugerties, NY | 05/31/12 | 05/29/12
81669 | Ciber, Inc. (State/One-Stop) | Tampa, FL | 05/31/12 | 05/29/12
81670 | Magna Powertrain (Workers) | E. Syracuse, NY | 05/31/12 | 05/29/12
81671 | American Background (Workers) | Winchester, VA | 05/31/12 | 05/22/12
81672 | WellPoint, Inc., New York Enrollment and Billing Associates (Company) | Albany, NY | 06/01/12 | 05/31/12
81673 | Regal Beloit Corporation (Workers) | Grafton, WI | 06/01/12 | 05/30/12
81674 | Archer Trim, Inc. (Company) | Lumberton, NC | 06/01/12 | 05/31/12
81675 | Navistar (State/One-Stop) | Fort Wayne, IN | 06/01/12 | 05/31/12

[FR Doc. 2012-15847 Filed 6-27-12; 8:45 am]

BILLING CODE 4510-FN-P